COMMODITY FUTURES TRADING COMMISSION

Sunshine Act Meetings

FEDERAL REGISTER CITATION OF PREVIOUS ANNOUNCEMENT: 85 FR 15142, March 17, 2020.

PREVIOUSLY ANNOUNCED TIME AND DATE OF THE MEETING: 10:00 a.m., Thursday, March 19, 2020.

CHANGES IN THE MEETING: The meeting has been canceled.

CONTACT PERSON FOR MORE INFORMATION: Christopher Kirkpatrick, Secretary of the Commission, 202-418-5964.

Authority: 5 U.S.C. 552b.

Dated: March 17, 2020.
Christopher Kirkpatrick,
Secretary of the Commission.

[FR Doc. 2020-05981 Filed 3-17-20; 4:15 pm]

BILLING CODE 6351-01-P